FEDERAL RESERVE SYSTEM

Notice of Proposals to Engage in Permissible Nonbanking Activities or to Acquire Companies that are Engaged in Permissible Nonbanking Activities; Correction

This notice corrects a notice (FR Doc. 01-7145) published on page 16058 of the issue for Thursday, March 22, 2001.

Under the Federal Reserve Bank of Cleveland heading, the entry for Charter One Financial, Inc., Cleveland, Ohio, is revised to read as follows:

A. Federal Reserve Bank of Cleveland (Paul Kaboth, Banking Supervision) 1455 East Sixth Street, Cleveland, Ohio 44101-2566:

1. Charter One Financial, Inc., Cleveland, Ohio; to acquire Alliance Bancorp, Hinsdale, Illinois, and thereby indirectly acquire Liberty Federal Bank, Hinsdale, Illinois, and thereby engage in permissible savings association activities, pursuant to § 225.28(b)(4)(ii) of Regulation Y; Liberty Financial Services, Inc., Hinsdale, Illinois, and thereby engage in permissible financial advice and securities brokerage activities, pursuant to § 225.28(b)(7)(i) of Regulation Y; Preferred Mortgage Associates, LTD (a.d.a. Liberty Home Mortgage), Lombard, Illinois, and thereby engage in mortgage origination and loan brokerage activities, pursuant to §§ 225.28(b)(1) and (4)(ii) of Regulation Y; LFB Operations LLC, and LFB Compliance LLC, both of Hinsdale, Illinois, and thereby engage in holding mortgage loans and operating a real estate investment trust, pursuant to §§ 228.25(b)(1) and (4)(ii) of Regulation Y; Churchview Limited Partnership, and Kedzie Limited Partnership, both of Hinsdale, Illinois, and thereby engage in permissible community development activities, pursuant to §§ 225.28(b)(4)(ii) and (b)(12) of Regulation Y.

Comments on this application must be received by April 16, 2001.

Board of Governors of the Federal Reserve System, March 22, 2001.
Robert deV. Frierson,
Associate Secretary of the Board.

[FR Doc. 01-7571 Filed 3-27-01; 8:45 am]

BILLING CODE 6210-01-S